DEPARTMENT OF THE INTERIOR

Bureau of Indian Affairs

[AAK4004200/A0R5C4040.9999.00/134A2100DD]

Proclaiming Certain Lands as Reservation for the Shakopee Mdewakanton Sioux Community of Minnesota

AGENCY: Bureau of Indian Affairs, Interior.

ACTION: Notice of Reservation Proclamation.

SUMMARY: This notice informs the public that the Assistant Secretary—Indian Affairs proclaimed approximately 569.01 acres, more or less, as an addition to the Reservation for the Shakopee Mdewakanton Sioux Community of Minnesota on June 20, 2014.

FOR FURTHER INFORMATION CONTACT: Robin A. White, Bureau of Indian Affairs, Division of Real Estate Services, MS-4642-MIB, 1849 C Street NW., Washington, DC 20240, at (202) 207-1110.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 467), for the land described below. The land was proclaimed to be an addition to the Shakopee Mdewakanton Sioux Community Reservation for the exclusive use of Indians on that reservation who are entitled to reside at the reservation by enrollment or tribal membership.

Reservation of the Shakopee Mdewakanton Sioux Community, Township of Shakopee, County of Scott and State of Minnesota

Parcel Number 1 MWCC

Legal Description excluding land transferred to Scott County Containing 569.01 acres, more or less

Parcel 1: Tax PID# 279150050

The West Half of the Southwest Quarter (W½ of the SW¼) and the Southwest Quarter of the Northwest Quarter (SW¼ of the NW¼) of Section 15, Township 115 North, Range 22 West of the 5th Principal Meridian, Scott County, Minnesota.

Also

Those parts of Government Lots 4 and 5 in Section 15, Township 115 North, Range 22 West of the 5th Principal Meridian, Scott County, Minnesota, lying southerly of the southerly right of way line of County Road 16 as described in the Land Exchange and Conveyance Agreement, filed as Document No. 728960 and of record in the Office of the County Recorder in said Scott County, said southerly right of way line being more particularly described as follows: Commencing at the Southeast corner of said Government Lot 4; thence N. 00°13′28″ W., along the east line of said Government Lot 4, a distance of 830.62 feet to southerly right of way line of County Road 16 and the POINT OF BEGINNING; thence N. 69°45′59″ W., along said southerly right of way line, a distance of 1,372.72 feet; thence continuing along said southerly right of way line northwesterly along a tangential curve, concave to the north, a distance of 896.88 feet, a radius of 3,917.72 feet, and a delta angle of 13°07′00″; thence continuing along said southerly right of way line N. 56°38′59″ W., tangent to last described curve, a distance of 494.50 feet; thence continuing along said southerly right of way line northwesterly along a tangential curve, concave to the south, a distance of 122.17 feet, a radius of 4,032.00 feet, a delta angle of 01°44′10″, a chord bearing of N. 57°31′04″ W., and a chord distance of 122.17 feet to the west line of said Government Lot 5 and the POINT OF TERMINATION, said point being southerly 616.83 feet from the northwest corner of said Government Lot 5.

Parcel 2: Tax PID# 279160010

The South Half of the Northeast Quarter (S½ of the NE¼) and the North Half of the Southeast Quarter (N½ of the SE¼) EXCEPT the Westerly 100 feet thereof, and the Southeast Quarter of the Southeast Quarter (SE¼ of the SE¼), all in Section 16, Township 115 North, Range 22 West of the 5th Principal Meridian, Scott County, Minnesota.

Also

That part of the Northeast Quarter of the Northeast Quarter (NE¼ of the NE¼) in Section 16, Township 115 North, Range 22 West of the 5th Principal Meridian, Scott County, Minnesota, lying northerly of the northerly right of way line of County Road 16 as described in the Land Exchange and Conveyance Agreement, filed as Document No. 728960 and of record in the Office of the County Recorder in said Scott County, being more particularly described as follows: BEGINNING at the Northeast corner of said Northeast Quarter of the Northeast Quarter, thence S. 00°42′26″ W., along the east line of said Northeast quarter of the Northeast quarter, a distance of 343.57 feet to the northerly right of way line of County Road 16; thence along said northerly right of way line northwesterly along a non-tangential curve, concave to the south, a distance of 274.52 feet, a radius of 1,764.54 feet, a delta angle of 8°54′50″, a chord bearing N. 69°32′38″ W., and a chord distance of 274.24 feet; thence continuing along said northerly right of way line N. 74°00′04″ W., a distance of 398.96 feet; thence Northwesterly along a non-tangential curve, concave to the south, a distance of 497.59 feet, a radius of 4182.00 feet, a delta angle of 6°49′02″, a chord bearing N. 72°44′04″ W., and a chord distance of 497.30 feet to the north line of the Northeast Quarter of the Northeast Quarter; thence S. 89°29′43″ E., along said north line, a distance of 1,119.63 feet to the POINT OF BEGINNING.

Also

That part of the Northeast Quarter of the Northeast Quarter (NE¼ of the NE¼) in Section 16, Township 115 North, Range 22 West of the 5th Principal Meridian, Scott County, Minnesota, lying southerly of the southerly right of way line of County Road 16 as described in the Land Exchange and Conveyance Agreement, filed as Document No. 728960 and of record in the Office of the County Recorder in said Scott County, and said southerly right of way line being more particularly described as follows: Commencing at the Southeast corner of Government Lot 4 of Section 15 in said Township 115 North, Range 22 West; thence N. 00°13′28″ W., along said east line of Government Lot 4, a distance of 830.62 feet to southerly right of way line of County Road 16; thence N. 69°45′59″ W., along said southerly right of way line, a distance of 1,372.72 feet; thence continuing along said southerly right of way line northwesterly along a tangential curve, concave to the north, a distance of 896.88 feet, a radius of 3,917.72 feet, and a delta angle of 13°07′00″; thence continuing along said southerly right of way line N. 56°38′59″ W., tangent to last described curve, a distance of 494.50 feet; thence continuing along said southerly right of way line northwesterly along a tangential curve, concave to the south, a distance of 122.17 feet, a radius of 4,032.00 feet, a delta angle of 01°44′10″, a chord bearing of N. 57°31′04″ W., and a chord distance of 122.17 feet to the east line of said Northeast Quarter of the Northeast Quarter and the POINT OF BEGINNING; thence continuing northwesterly, along the last described curve and said southerly right of way line, a distance of 1,427.23 feet, a radius of 4,032.00 feet, a delta angle of 20°16′52″, a chord bearing of N. 68°31′35″ W., and a chord distance of 1,419.79 feet to the west line of the Northeast Quarter of the Northeast Quarter of Section 16 and the POINT OF TERMINATION, said point being southerly 108.74 feet from the northwest corner of said Northeast Quarter of the Northeast Quarter.

Parcel 3: Tax PID# 279210050

The Northeast Quarter of the Northeast Quarter (NE¼ of the NE¼) of Section 21, Township 115 North, Range 22 West of the 5th Principal Meridian, Scott County, Minnesota.

Parcel 4: Tax PID# 279220010

The Northwest Quarter of the Northwest Quarter (NW¼ of the NW¼) of Section 22, Township 115 North, Range 22 West of the 5th Principal Meridian, Scott County, Minnesota.

Parcel 5: Tax PID# 279150050

The South Three-fourths of the East Half of the Southwest Quarter (S¾ of the E½ of the SW¼) of Section 15, Township 115 North, Range 22 West of the 5th Principal Meridian, Scott County, Minnesota.

Parcel 6: Tax PID# 279220010

The Northeast Quarter of the Northwest Quarter (NE¼ of the NW¼) of Section 22, Township 115 North, Range 22 West of the 5th Principal Meridian, Scott County, Minnesota, EXCEPTING THEREFROM the following described tract: Commencing at the Northeast corner of said Northeast Quarter of the Northwest Quarter of Section 22; thence S. 01°08′57″ W., along the said east line, a distance of 621.16 feet to the POINT OF BEGINNING; thence continuing along the said east line S. 1°08′57″ W., a distance of 349.75 feet; thence N. 88°39′13″ W., a distance of 501.20 feet; thence N. 03°09′13″ W., a distance of 326.00 feet; thence N. 88°39′00″ E., a distance of 526.16 feet to the POINT OF BEGINNING.

Dated: June 20, 2014.
Kevin K. Washburn,
Assistant Secretary—Indian Affairs.

[FR Doc. 2014-15470 Filed 6-30-14; 8:45 am]

BILLING CODE 4310-W7-P